DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than January 15, 2016.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Shortage Designation Management System

OMB No. 0915-xxxx—NEW

Abstract: HRSA's Bureau of Health Workforce (BHW) is committed to improving the health of the nation's underserved communities and vulnerable populations by developing, implementing, evaluating, and refining programs that strengthen the nation's health workforce. The Department of Health and Human Services relies on two federal shortage designations to identify and dedicate resources to areas and populations in greatest need of providers: Health Professional Shortage Area (HPSA) designations and Medically Underserved Area/Medically Underserved Population (MUA/P) designations. HPSA designations are geographic areas, population groups, and facilities that are experiencing a shortage of health professionals. MUA/P designations are areas, or populations within areas, that are experiencing a shortage of health care services. MUAs are designated for the entire population of a particular geographic area. MUP designations are limited to particular groups of underserved people within an area. These designations are currently used in a number of Departmental programs that provide both federal and state government grant/program benefits for communities, health care facilities, and providers. BHW has the responsibility for designating and de-designating HPSAs and MUA/Ps on behalf of the Secretary.

HPSA designations are required to be reviewed and updated annually to reflect current data. Individual states—through their Primary Care Office (PCO)—have primary responsibility for initiating an application for a new or updated HPSA designation, or withdrawing HPSAs that no longer meet the designation criteria. HRSA reviews the application and makes the final determination on the HPSA designation. Requests come from the PCOs who have access to the online application and review system, Shortage Designation Management System (SDMS). Requests that come from other sources are referred to the PCOs for their review and concurrence. In addition, interested parties, including the Governor, the State Primary Care Association, and state professional associations are notified of each request submitted for their comments and recommendations.

In order to obtain a federal shortage designation for an area, population, or facility, PCOs must submit a shortage designation application through SDMS for review and approval by BHW. Both the HPSA and MUA/P applications request local, state, and national data on the population that is experiencing a shortage of health professionals and the number of health professionals relative to the population covered by the proposed designation. The information collected on the applications is used to determine which areas, populations, and facilities have shortages.

The lists of designated HPSAs are annually published in the Federal Register. In addition, lists of HPSAs are updated on the HRSA Web site, http://www.hrsa.gov/shortage/, so that interested parties can access the information.

Need and Proposed Use of the Information: The need and purpose of this information collection is to obtain information to designate HPSAs and MUA/Ps. The information obtained from the SDMS is used to determine which areas, populations, and facilities have critical shortages of health professionals. The SDMS HPSA application and SDMS MUA/P application are used for these designation determinations. Applicants must submit a SDMS application to BHW to obtain a federal shortage designation. The application asks for local, state, and national data required for determining the application's eligibility to obtain a federal shortage designation. In addition, applicants must enter detailed information explaining how the area, population, or facility faces a critical shortage of health professionals.

Likely Respondents: State PCOs interested in obtaining a primary care, dental, or mental HPSA designation or a MUA/P in their state.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Designation Planning and Preparation | 54 | 57 | 3,078 | 23.40 | 72,025.20
SDMS Application | 54 | 57 | 3,078 | 11.33 | 34,873.74
Total | 54 | 57 | 3,078 | 34.73 | 106,898.94

Jackie Painter,
Director, Division of the Executive Secretariat.

[FR Doc. 2015-31642 Filed 12-15-15; 8:45 am]

BILLING CODE 4165-15-P